DEPARTMENT OF ENERGY

Federal Energy Regulatory Commission

[Project No. 10624-027]

French Paper Company; French Hydro LLC; Notice of Application for Transfer of License, Substitution of Relicense Applicant, and Soliciting Comments, Motions To Intervene, and Protests

On July 30, 2019, French Paper Company (transferor) and French Hydro LLC (transferee) filed a joint application for: (1) Transfer of license for the French Paper Project No. 10624, located on the St. Joseph River in Berrien County, Michigan; and (2) substitution of French Hydro LLC for French Paper Company as the applicant in the pending application for a new license filed by the transferor for Project No. 10624-026.

Applicants Contacts: For Transferor and Transferee: Mr. Alex Rotolo, Secretary & Chief Financial Officer, French Paper Company and French Hydro LLC, 100 French Street, Niles, MI 49120, Phone: 203-241-6743.

FERC Contact: Anumzziatta Purchiaroni, (202) 502-6191, Anumzziatta.purchiaroni@ferc.gov.

Deadline for filing comments, interventions, and protests: 30 days from the issuance date of this notice, by the Commission. The Commission strongly encourages electronic filing. Please file interventions, comments, and protests using the Commission's eFiling system at http://www.ferc.gov/docs-filing/efiling.asp. Commenters can submit brief comments up to 6,000 characters, without prior registration, using the eComment system at http://www.ferc.gov/docs-filing/ecomment.asp. You must include your name and contact information at the end of your comments.

For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-10624-027.

Dated: September 4, 2019.
Kimberly D. Bose,
Secretary.

[FR Doc. 2019-19482 Filed 9-9-19; 8:45 am]

BILLING CODE 6717-01-P